DEPARTMENT OF LABOR

Employee Benefits Security Administration

[Application Number D-11552]

Withdrawal of the Notice of Proposed Exemption Involving Barclays Bank PLC and Barclays Capital Inc. (Applicants) Located, Respectively, in London, England and New York, NY

In the March 26, 2009 issue of the Federal Register, at 74 FR 13250, the Department of Labor (the Department) published a notice of proposed exemption from the prohibited transaction restrictions of the Employee Retirement Income Security Act of 1974, as amended and from certain taxes imposed by the Internal Revenue Code of 1986. The notice of proposed exemption, if granted, would have replaced and modified exemptive relief, previously provided pursuant to Prohibited Transaction Exemption 96-62, for the Applicants' securitization activities, which generally permits employee benefit plans to purchase, hold, sell or exchange certain securities representing interests in asset-backed or mortgage-backed investment pools.

By e-mail dated June 1, 2009, the Applicants requested that the application for exemption be withdrawn.

Accordingly, the notice of proposed exemption is hereby withdrawn.

Signed at Washington, DC, this 22nd day of June, 2009.
Ivan L. Strasfeld,
Director, Office of Exemption Determinations, Employee Benefits Security Administration.

[FR Doc. E9-15156 Filed 6-25-09; 8:45 am]

BILLING CODE 4510-29-P